DEPARTMENT OF LABOR

Employment and Training Administration

[TA-W-41,385]

Peck Manufacturing Company of North Carolina, Inc., Warrenton, Notice of Termination of Investigation

Pursuant to Section 221 of the Trade Act of 1974, an investigation was initiated on April 22, 2002 in response to petition filed by the company on behalf of workers at Peck Manufacturing Company of North Carolina, Inc., Warrenton, North Carolina.

The Department of Labor was unable to locate an official of the company to obtain the information necessary to render a decision. Consequently, further investigation in this case would serve no purpose, and the investigation has been terminated.

Signed in Washington, DC this 18th day of October, 2002.
Linda G. Poole,
Certifying Officer, Division of Trade Adjustment Assistance.

[FR Doc. 02-28030 Filed 11-4-02; 8:45 am]

BILLING CODE 4510-30-P